FEDERAL COMMUNICATIONS COMMISSION

47 CFR Part 64

[WC Docket No. 12-375; DA 14-829]

Rates for Interstate Inmate Calling Services

AGENCY: Federal Communications Commission.

ACTION: Final rule; announcement of due date.

SUMMARY: On September 26, 2013, the Federal Communications Commission (Commission) released a Report and Order and Further Notice of Proposed Rulemaking, Rates for Interstate Inmate Calling Services, WC Docket No. 12-375, FCC 13-113, (Report and Order) which required, among other things, that all ICS providers comply with a one-time mandatory data collection provided in the Report and Order to enable the Commission to determine what costs ICS providers incur in order to guide the Commission as it evaluates next steps toward permanently reforming ICS rates, including the adoption of rates that are just, reasonable, and fair. This information collection required approval from the Office of Management and Budget (OMB). This document announces the due date to file data with the Commission responsive to the one-time mandatory data collection requirement.

DATES: Data responsive to the information collection requirements provided in Section III.I of the Report and Order are due July 17, 2014.

FOR FURTHER INFORMATION CONTACT: Lynne Hewitt Engledow, Wireline Competition Bureau, (202) 418-1520 or lynne.engledow@fcc.gov.

SUPPLEMENTARY INFORMATION: The information collection requirement in Section III.I of the Report and Order, published at 78 FR 67956, was approved by the Office of Management and Budget on June 2, 2014. The notices of Paperwork Reduction Act approval and information collection effective date were published at 79 FR 33709 on June 12, 2014. This allows the Commission to collect from all ICS providers data related to the costs of providing ICS as outlined in Section III.I of the Report and Order. The required data are due July 17, 2014.

To assist ICS providers and to allow for uniform data filing, the Commission has developed a template form and related instructions for ICS providers to use to file the required data. These documents may be found at www.fcc.gov/encyclopedia/ICS-mandatory-data-collection. The required data may be filed pursuant to the Protective Order adopted in this proceeding. The Commission requires ICS provider data to be filed electronically. Additional information related to filing data, including how to file confidential data, may be found in the instructions on the above-referenced Web site.

Federal Communications Commission.
Lynne H. Engledow,
Assistant Division Chief, Wireline Competition Bureau.

[FR Doc. 2014-14863 Filed 6-24-14; 8:45 am]

BILLING CODE 6712-01-P